DEPARTMENT OF ENERGY

Notice of Intent To Prepare an Environmental Impact Statement for Remediation of Area IV of the Santa Susana Field Laboratory and Conduct Public Scoping Meetings

AGENCY: Office of Environmental Management, Department of Energy.

ACTION: Notice of Intent To Prepare an Environmental Impact Statement and Conduct Public Scoping Meetings.

SUMMARY: The Department of Energy (DOE) announces its intent to prepare an Environmental Impact Statement (EIS) and conduct public scoping meetings under the National Environmental Policy Act (NEPA) for remediation of Area IV of the Santa Susana Field Laboratory (SSFL Area IV). The SSFL, approximately 2,852 acres in the hills between Chatsworth and Simi Valley, CA, was developed as a remote site to test rocket engines and conduct nuclear research. Area IV was established at the SSFL in 1953 and occupies 290 acres of the SSFL. The DOE Energy Technology Engineering Center (ETEC) is located on 90 acres within SSFL Area IV.

DOE is preparing the EIS in part as a response to a May 2, 2007, decision by the U.S. District Court of Northern California that DOE was in violation of NEPA for its 2003 decision to issue a Finding of No Significant Impact (FONSI), and to conduct remediation of the ETEC site, on the basis of an environmental assessment (EA) rather than an EIS.

DOE recognizes the need to follow the NEPA process and will evaluate the range of reasonable alternatives for remediation of SSFL Area IV. DOE will evaluate alternatives for disposition of radiological facilities and support buildings, remediation of the affected environment, and disposal of all resulting waste at existing, approved sites. DOE will consider the cumulative impacts from exposure to chemical and radiological constituents in SSFL Area IV from future land uses.

DOE invites public comment on the scope of this EIS during a scoping period that will end August 14, 2008. During this period, DOE officials will conduct public scoping meetings in the region surrounding the SSFL and in Sacramento, California, to provide the public and other stakeholders with an opportunity to comment on the scope of the EIS. DOE recognizes the value of the public's perspectives, and will inform, involve, and interact with the public during all phases of the EIS process.

DOE is issuing this Notice of Intent (NOI) in order to inform and request comments and assistance from Federal and state agencies, state and local governments, Tribal Nations, natural resource trustees, the general public, and other interested parties on the appropriate scope of the EIS, alternatives, environmental issues, and the environmental impacts related to DOE's remediation activities for SSFL Area IV. DOE invites those agencies with jurisdiction by law or special expertise to be cooperating agencies.

DATES: The public scoping period starts May 16, 2008 and will continue until August 14, 2008. DOE will consider all comments received or postmarked by August 14, 2008, in defining the scope of this EIS. Comments received or postmarked after that date will be considered to the extent practicable.

ADDRESSES: Public scoping meetings will be held to provide the public with an opportunity to present comments on the scope of the EIS and to learn more about the proposed action from DOE officials. Public scoping meetings will be held at the following locations on the following days and times:

• Simi Valley, California: Grand Vista Hotel, 999 Enchanted Way, July 22, 2008, 2 p.m. to 4 p.m. and 6:30 p.m. to 9:30 p.m.;

• Northridge, California: World Vision Church, 19514 Rinaldi Street, July 23, 2008, 2 p.m. to 4 p.m. and 6:30 p.m. to 9:30 p.m.; and

• Sacramento, California: Sacramento Central Library, 828 I Street, July 24, 2008, 2 p.m. to 4 p.m. and 6:30 p.m. to 9:30 p.m.

Written comments on the scope of the EIS should be sent to: Ms. Stephanie Jennings, NEPA Document Manager, U.S. Department of Energy, P.O. Box 10300, Canoga Park, CA 91309, Express Mail Delivery Address: 5800 Woolsey Canyon Road, Canoga Park, CA 91304, telephone number: 818-466-8162, fax: 818-466-8730, or e-mail to stephanie.jennings@emcbc.doe.gov (use “Scoping comments” for the subject).

All comments whether offered in person at the scoping meeting, or in writing as described above will be considered.

FOR FURTHER INFORMATION CONTACT: To request further information about this EIS or about the public scoping activities, or to be placed on the EIS distribution list, use any of the methods (mail, express mail, fax, telephone, or e-mail) listed under ADDRESSES above. For general information concerning the DOE NEPA process, contact Carol Borgstrom, Director, Office of NEPA Policy and Compliance (GC-20), U.S. Department of Energy, 1000 Independence Avenue, SW., Washington, DC 20585-0119, e-mail to: AskNEPA@hq.doe.gov, telephone: 202-586-4600, leave a message at 1-800-472-2756, or fax: 202-586-7031.

This NOI will be available on the internet at: http://www.eh.doe.gov/NEPA and at http://www.etec.energy.gov, click on the Area IV EIS link on the toolbar. Further information about SSFL Area IV can be found at http://www.etec.energy.gov and click on the SSFL Area IV EIS link in the toolbar.

Reading rooms with information about the SSFL Area IV are available to the public and are located in:

• Simi Valley, California: Simi Valley Library, 2969 Tapo Canyon Road, (805) 526-1735;

• Woodland Hills, California: Platt Branch Library, 23600 Victory Blvd., (818) 340-9386; and

• Northridge, California: California State University Northridge Oviatt Library, 2nd Floor, Room 265, (818) 677-2285.

SUPPLEMENTARY INFORMATION:

Background

SSFL, located on approximately 2,852 acres in the hills between Chatsworth and Simi Valley, CA, was developed as a remote site to test rocket engines and conduct nuclear research. The Atomics International Unit of Rockwell International's Canoga Park-based Rocketdyne Division began testing in 1947. An estimated 17,000 open-air rocket tests that supported the space program were conducted at the site. In 1996, Rockwell International sold its aerospace and defense business, including the SSFL, to The Boeing Company (Boeing).

SSFL is divided into four administrative areas, Areas I, II, III, and IV, and two undeveloped land areas. Area I consists of about 713 acres, including 671 acres that are owned and operated by Boeing and 42 acres that are owned by the National Aeronautics and Space Administration (NASA) and operated for it by Boeing. Area II consists of about 410 acres that are owned by NASA and operated for it by Boeing. Area III consists of about 114 acres that are owned and operated by Boeing. Area IV consists of about 290 acres that are owned by Boeing, a portion of which it operated for the DOE. Boeing also owns a contiguous undeveloped land area of 1,143 acres to the south and a contiguous undeveloped land area of 182 acres to the north.

Starting in the mid-1950s, the Atomic Energy Commission (AEC), a predecessor agency of DOE, funded nuclear energy research on a 90-acre parcel of SSFL Area IV leased from Rocketdyne. ETEC was established by the AEC on this parcel in the early 1960s as a “center of excellence” for liquid metals technology.

A total of 10 small reactors were built for various research activities over the years of operation. The most notable of the reactors was the Sodium Reactor Experiment (SRE). SRE was an experimental development-stage sodium-cooled nuclear reactor that operated from April 1957 to February 1964 at the SSFL. SRE was the first commercial nuclear power plant to provide electricity to the public (powering the City of Moorpark in 1957). An accident occurred at the SRE in July 1959 when there was an accidental blockage of sodium coolant in some of the reactor coolant channels resulting in the partial melting of the fuel cladding in 13 of the 43 reactor fuel assemblies. Radioactive gases from the accident were contained within the facility. Over a period of two months, the gases were vented and released to the atmosphere. The controlled releases were always below those levels allowed by requirements in existence both then and today. Following cleanup, the facility was refueled, brought back online, and operated until February 1964. All SSFL reactor operations ended in 1980 and nuclear research work was completed in 1988. Cleanup of ETEC began in the 1960s and was performed in an ongoing manner as unnecessary facilities were decommissioned.

In March 2003, DOE issued an Environmental Assessment for Cleanup and Closure of the Energy Technology Engineering Center, DOE/EA-1345. Based on the results of the EA, DOE determined that an EIS was not required and issued a FONSI in March 2003.

Comments on the Environmental Assessment were received by DOE from Federal and State agencies, elected officials, and from local community members. The comments addressed the following concerns:

U.S. Environmental Protection Agency, Region 9 (EPA) said that the EA did not clearly identify the decisions that were to be made, how those decisions related to each other, or how or when the decisions would be made. EPA also expressed concern that the conclusions reached by DOE in the EA were based upon inadequate standards and information. EPA stated: “* * * that the [Comprehensive Environmental Response, Compensation and Liability Act (CERCLA)] process should be used to evaluate and select a cleanup alternative.”

EPA and the State of California Department of Toxic Substances Control (DTSC) criticized the Rocketdyne survey of radiological contamination, which the EA relied upon, as being insufficient for not addressing multiple exposures to radiological contamination, contamination through combinations of radiological and chemical contamination, and contamination from different radionuclides. They also expressed concern that there was no plan to examine SSFL Area IV beyond the 90 acres of ETEC, that groundwater contamination was not addressed, and that there was a failure to address past releases of contamination.

The City of Los Angeles and local community members expressed concern that DOE did not adequately consider the effects of releases and remediation on the surrounding communities. Senator Barbara Boxer expressed concern with proposed waste disposal methods and with the intention to leave a substantial amount of radioactive soil in place. The Committee to Bridge the Gap criticized DOE for assuming the site would be suitable in the future for residential development. Local community members were concerned with what DOE proposed as an acceptable rate of increased cancer risk.

DOE is now preparing an SSFL Area IV EIS in response to the U.S. District Court of Northern California's May 2, 2007, ruling in the case Natural Resources Defense Council v. Department of Energy Slip Op. 2007 WL 2349288 (N.D. Cal. Aug. 15, 2007), which held that DOE's decision to issue a FONSI and conduct cleanup and closure on the basis of DOE/EA-1345 was in violation of NEPA. The Court ordered DOE to prepare an EIS for SSFL Area IV in accordance with NEPA. The Court further prevented the DOE from transferring ownership or possession, or otherwise relinquishing control over any portion of SSFL Area IV, until DOE completes the EIS and issues a Record of Decision pursuant to NEPA. In response to requests from DTSC and the California Congressional delegation, DOE suspended the physical demolition and removal activities for the remaining facilities at ETEC, except for those activities necessary to maintain the site in a safe and stable configuration. DOE will continue surveillance, maintenance, and environmental monitoring, including soil and groundwater characterization required under the Resource Conservation and Recovery Act (RCRA), the California Health and Safety Code section 25187, and DOE Orders, while it prepares the EIS.

In addition to the investigation and evaluation of individual soils contamination areas under the requirements of RCRA, DOE, Boeing and NASA also are required to investigate and evaluate the groundwater for development of potential cleanup or interim actions. The EIS will address groundwater contamination and contributors to the contamination related to Area IV. All prior and currently planned interim corrective action activities under the DTSC administered Consent Order are located outside of Area IV and will be evaluated to determine if any impact on the groundwater plumes within Area IV exist.

In August 2007, DTSC issued a RCRA Consent Order to DOE, NASA, and Boeing (as respondents) pursuant to its authority over hazardous waste under the California Health and Safety Code section 25187. This Order requires the respondents to clean up all chemically-contaminated soils at SSFL by 2017 or earlier, provides the option for DTSC to require additional work to be conducted offsite of SSFL Area IV to assess air, soil, and water contamination and requires the preparation of an Environmental Impact Report (EIR), pursuant to the California Environmental Quality Act (CEQA). DTSC may use information in the EIS in its preparation of the EIR.

DOE issued an Advance Notice of Intent (ANOI), 72 FR 58834 (October 17, 2007), to prepare an EIS for SSFL Area IV and to conduct Public Involvement Activities in order to inform and request early comments and assistance. Informal discussions resulting from publication of the ANOI with both members of the public and other stakeholders aided in the development of this NOI.

DOE has conducted interviews with interested parties. The purpose of these interviews was to learn about concerns with the proposed remediation of SSFL Area IV as well as the public's preferences for being involved during the development of the EIS. This broad cross section of individuals includes neighbors of the SSFL, individuals who have been active in previous SSFL actions, former employees, elected and appointed local, state, and Federal officials, representatives of local and national environmental groups, members of local neighborhood associations, organizations, and the business community. This sampling of a wide range of perspectives is enhancing the development of future public involvement activities. The report of these interviews and associated recommendations for improvements in public involvement activities will be posted on the Web site listed in the FOR FURTHER INFORMATION SECTION of this NOI.

In October 2007, California Senate Bill 990 (SB 990) was signed into law. SB 990 requires the DTSC to certify that the SSFL has been completely remediated so that the cumulative risk of exposure from residual chemical and radiological contamination does not exceed a risk range premised on future land use of either suburban or rural residential. Until this certification is completed, the land at SSFL cannot be transferred or sold.

In December 2007, the EPA announced the results of a Hazard Ranking Survey it had conducted at SSFL beginning in Spring 2007. Although EPA could not reveal the final score, EPA indicated that the score exceeded the threshold for listing SSFL on the National Priority List for cleanup under CERCLA. Consequently, EPA sent a letter dated December 6, 2007, to the Governor of California requesting his concurrence in the listing. In response, the California Environmental Protection Agency, in a letter dated January 15, 2008, asked that EPA defer for six months the decision regarding whether to propose listing for this site. EPA Region 9 agreed to defer listing SSFL until July 2008.

As part of the FY 2008 appropriations, Congress mandated that DOE shall use a portion of the funding for ETEC to enter into an interagency agreement (IAG) with EPA to conduct a joint comprehensive radioactive site characterization of Area IV and ensure that all aspects of the cleanup of the radioactive contamination comply fully with CERCLA. DOE and EPA are negotiating the terms of the IAG, and the associated scope of the site characterization.

DOE is collecting updated information that it will incorporate into the EIS analysis. A data gap analysis was conducted to evaluate the usability and acceptability of existing data, and to identify any additional data that may be needed to support the EIS. Results of the data gaps analysis will be shared with interested parties in June 2008, and will also be made available on the Web site (http://www.etec.energy.gov, click on Area IV EIS in the toolbar) . A follow-on field analysis and sampling plan will be developed and will also be shared with interested parties in August 2008. Dates, locations and times for these workshops on the draft gap analysis and availability of the subsequent draft sampling and analysis plans will be announced through the site mailing list, the local media, and on the Web site. The draft gap analysis, field analysis, and sampling plans will all be available in the public reading rooms listed above. Printed copies of documents may be obtained from Ms. Jennings at the location listed in the above ADDRESSES section.

Purpose and Need for Agency Action

DOE needs to complete remediation of SSFL Area IV to comply with applicable requirements and for radiological and hazardous contaminants.

Alternatives

In the EIS, DOE will describe the statutory and regulatory requirements for each remediation alternative and whether legislation or regulatory modifications may be needed to implement the alternative under consideration. The EIS will present the health and environmental consequences of the alternatives in comparative form to provide a clear basis for informed decision making. In summary, DOE proposes to evaluate the alternatives listed below:

• Alternative 1: No Action—This alternative involves the cessation of all DOE management and oversight of SSFL Area IV. The buildings would remain and would not be monitored or maintained. Unmitigated natural processes, including erosion, groundwater transport of contamination and concrete degradation, would be assumed to occur. The purposes of evaluating this alternative are to establish the baseline against which the environmental impacts from all other alternatives are compared and to justify the proposed action. NEPA regulations require analysis of a no action alternative.

• Alternative 2: No further cleanup or disposition of buildings and no remediation of contaminated media at SSFL Area IV—DOE would continue environmental monitoring and maintain security of SSFL Area IV.

• Alternative 3: Onsite Containment at SSFL Area IV—Containment onsite of buildings, wastes, radiological and chemical contaminants, aligned with potential future land use scenarios including, but not limited to, agricultural, residential, and open space.

• Alternative 4: Offsite Disposal of SSFL Area IV Materials—Demolition of buildings, removal of contaminated media aligned with potential future land use scenarios including, but not limited to, agricultural, residential, and open space. Transportation of non-radiological wastes to approved disposal or treatment facilities and radiological wastes to an approved out-of-state disposal facility.

• Alternative 5: Combination On-Site/Off-Site Disposal Alternative for SSFL Area IV—Demolition of buildings, on-site containment of contaminated media aligned with potential future land use scenarios including, but not limited to, agricultural, residential, and open space. Transportation of non-radiological wastes from building demolition to approved disposal or treatment facilities and radiological waste from building demolition to an approved, out-of-state disposal facility.

These preliminary alternatives will be refined and further developed as part of the scoping process through public and other stakeholder input.

Preliminary Environmental Impacts for Analysis

DOE has tentatively identified the following environmental impacts for analysis in the SSFL Area IV EIS. This list is presented to facilitate comment during the public involvement activities on the scope of the EIS. These impacts include:

• Potential health and safety impacts to the general population, and to workers, and to the environment from radiological and non-radiological releases;

• Potential transportation impacts from the shipment of radiological and non-radiological wastes to disposal sites;

• Potential impacts from accidents that might occur (e.g., accidents associated with removal and transportation of contaminated media);

• Potential impacts from intentional destructive acts;

• Land use impacts;

• Socioeconomic impacts;

• Impacts to ecological resources (endangered and protected species [Braunton's milk-vetch, Santa Susana tarplant, Southern California black walnut, Mariposa lily, Coast Horned Lizard], floodplain and wetlands);

• Cultural, historical and paleontological resources impacts;

• Irretrievable and irreversible commitment of resources;

• Potential disproportionately high and adverse effects on low-income and minority populations (environmental justice); and

• Cumulative impacts from radiological and non-radiological contamination both onsite and offsite of SSFL Area IV, and from both radiological and non-radiological contaminants.

Preliminary Identification of Issues

The following issues have been tentatively identified for consideration in the EIS. This list is not intended to be all-inclusive, but is presented to facilitate public comment during the public scoping period:

• Best methods to obtain accurate information on radiological and hazardous contamination;

• Compliance with applicable Federal, state and local requirements;

• Long-term stewardship and institutional controls; and

• Mitigation measures to avoid or mitigate potentially significant environmental impacts.

Scoping Process

DOE issued an Advance Notice of Intent (ANOI), 72 FR 58834 (October 17, 2007), to prepare an EIS for SSFL Area IV and to conduct public involvement activities in order to inform and request early comments and assistance. Informal discussions resulting from publication of the ANOI with both members of the public and other stakeholders aided in the development of this NOI.

DOE is issuing the NOI, pursuant to 40 CFR 1501.7 and 10 CFR 1021.311, in order to inform and request comments and assistance from Federal and state agencies, state and local governments, natural resource trustees, the general public, and other interested parties on the scope of the EIS, environmental issues, alternatives to be analyzed, and the potential environmental impacts related to DOE's potential activities at this site. The NOI is also being issued to notify the public and other stakeholders of the scoping meetings to be held as described. In addition, DOE will provide progress updates to the public and other stakeholders throughout all phases of the EIS process.

DOE will consult with appropriate Federal and state agencies regarding the environmental and regulatory issues germane to the proposed remediation alternatives for analysis in the EIS and the environmental issues to be analyzed. DOE invites those agencies with jurisdiction by law or special expertise to be cooperating agencies.

Public scoping meetings will be held at the locations and times listed in the ADDRESSES section of this Notice.

DOE will designate a presiding officer for the scoping meetings. At the opening of each meeting, the presiding officer will announce procedures necessary for the conduct of the meeting. At the beginning of the scoping meetings, a brief presentation by DOE officials will be given explaining DOE's proposed approach to alternatives, issues to be addressed, and impacts that will be analyzed in the EIS. This presentation will be followed by a question and answer session. Following the question and answer session, the public will be given the opportunity to provide comments orally. This part of the scoping meetings will not be conducted as an evidentiary hearing, and there will be no questioning or cross-examination of the speakers. DOE personnel, however, may ask for clarifications to ensure that they fully understand the comments and suggestions. The presiding officer will establish the order of the speakers, and will ensure that everyone who wishes to speak has a chance to do so. Oral comments will be limited in duration at the discretion of the presiding officer based on the number of commenters and the time available. DOE is especially interested in learning from the public any additional issues or alternatives that should be considered. Comment cards will also be available for those who would prefer to submit written comments. Persons who wish to speak may sign up to speak before each meeting at the reception desk. Oral and written comments will be considered equally in the preparation of the EIS. See the ADDRESSES section of this Notice for the times and locations of these meetings.

DOE will make transcripts of the scoping meetings and other environmental and SSFL Area IV related materials available for public review in the reading rooms listed in the FOR FURTHER INFORMATION CONTACT [section of this Notice]. This information will also be available through the project web site at http://www.etec.energy.gov, click on Area IV EIS in the toolbar.

Draft EIS Schedule and Availability

DOE will provide a public comment period of at least 45 days from the publication of the EPA's Notice of Availability (NOA) of the Draft EIS in the Federal Register and will hold at least one public hearing. DOE will separately announce in the Federal Register and local media information on the public hearings schedule and location. DOE expects to issue the Draft EIS in early 2009. Comments on the Draft EIS will be considered and addressed in the Final EIS, which DOE anticipates issuing in the fall 2010. DOE will issue a Record of Decision no sooner than 30 days from EPA's NOA of the Final EIS.

Issued in Washington, DC, on May 13, 2008.
Ines R. Triay,
Acting Assistant Secretary for Environmental Management.

[FR Doc. E8-11033 Filed 5-15-08; 8:45 am]

BILLING CODE 6450-01-P